DEPARTMENT OF THE INTERIOR

Bureau of Land Management

[CA-330-1820-00]

Notice of Resource Advisory Council Meeting

AGENCY: Bureau of Land Management, Northwest California Resource Advisory Council, Arcata, CA.

ACTION: Notice of meeting.

SUMMARY: Pursuant to the authorities in the Federal Advisory Committees Act (Public Law 92-463) and the Federal Land Policy and Management Act (Public Law 94-579), the U.S. Bureau of Land Management's Northwest California Resource Advisory Council will hold a field tour and meeting Thursday and Friday, July 13 and 14, 2000, in Eureka, California. Both the field tour and meeting are open to the public. Members of the public participating in the field tour must bring their own transportation, lunch and beverages. Those wishing to participate in the field tour must RSVP with the BLM Arcata Field Office, 1695 Heindon Rd., Arcata, CA.

SUPPLEMENTARY INFORMATION: The meeting begins at 10 a.m. Wednesday, July 13, at the parking area of the Eureka Inn, 518 G St., in Eureka, California. Members will join staff from the BLM's Arcata Field Office and depart immediately for a guided hike into the southern part of the Headwaters Forest Reserve. On Friday, July 14, the council will convene a business meeting in the Eureka Inn. Agenda items include discussion of the BLM's proposed development of a national strategy for management of off-highway vehicles on public lands. The council will accept public comments on this topic, and others, beginning at 11 a.m. Depending on the number of persons wishing to speak, a time limit could be established. The council will also discuss emerging issues for the BLM, review a proposed publication series, and hear reports from the managers of the BLM's Arcata, Redding and Ukiah field offices.

FOR FURTHER INFORMATION CONTACT: Contact Lynda Roush, BLM Arcata Field Manager, at (530) 233-4666.

Joseph J. Fontana,
Public Affairs Officer.

[FR Doc. 00-15893 Filed 6-22-00; 8:45 am]

BILLING CODE 4310-40-P